DEPARTMENT OF THE TREASURY

Bureau of Alcohol, Tobacco and Firearms

27 CFR Parts 47 and 178

[T.D. ATF-426]

RIN 1512-AC02

Implementation of the Model Regulations for the Control of the International Movement of Firearms, Their Parts and Components, and Ammunition (99R-281P)

AGENCY: Bureau of Alcohol, Tobacco and Firearms (ATF), Department of the Treasury.

ACTION: Final rule, Treasury decision.

SUMMARY: This Treasury decision amends the regulations governing the importation of firearms, ammunition, and implements of war. The changes implement the “Model Regulations for the Control of the International Movement of Firearms, Their Parts and Components, and Ammunition” which President Clinton directed the Secretaries of State, Commerce, and Treasury to implement after the second Summit of the Americas, in Santiago, Chile. The purpose of the Model Regulations is to provide standardized procedures for the international movement of firearms, their parts and components, and ammunition so as to prevent illegal trafficking in these articles. This final rule also makes technical and conforming amendments to certain sections of the regulations. In addition, this final rule revokes Rev. Rul. 69-309.

DATES: This rule is effective June 20, 2000.

FOR FURTHER INFORMATION CONTACT: Lawrence G. White, Firearms and Explosives Imports Branch, Bureau of Alcohol, Tobacco and Firearms, 650 Massachusetts Avenue, NW., Washington, DC 20226 (202-927-8320).

SUPPLEMENTARY INFORMATION:

Background—CICAD Changes

On April 18, 1998, at the second Summit of the Americas, in Santiago, Chile, President Clinton announced that the United States would issue regulations implementing the “Model Regulations for the Control of the International Movement of Firearms, Their Parts and Components, and Ammunition” (the “Model Regulations”). The Model Regulations were drafted by the Inter-American Drug Abuse Control Commission (“CICAD”) at the request of the Organization of American States. The purpose of the Model Regulations is to provide standardized procedures for the international movement of firearms, their parts and components, and ammunition so as to prevent illegal trafficking in these articles.

To further these objectives, the President directed the U.S. Secretaries of State, Commerce, and Treasury to implement the Model Regulations. In response to the President's directive, on April 12, 1999, the Department of State published in the Federal Register amendments to the International Traffic in Arms Regulations (64 FR 17531). The Department of Commerce published its amended regulations in the Federal Register on April 13, 1999 (64 FR 17968). In this final rule, ATF is amending its regulations and affected forms to comply with the Model Regulations.

ATF is responsible for administering the import provisions of the Arms Export Control Act (AECA) and the Gun Control Act (GCA). The regulatory amendments required by the President's directive necessitate changes to AECA regulations in 27 CFR part 47 and GCA regulations in 27 CFR part 178. Changes made by this final rule include the following:

1. Inclusion of Final Recipient Information on Import Permits

The import permit must identify the final recipient, if known, of an imported firearm, firearm part, or ammunition. Identification is to include name, address, telephone and fax numbers, country of residence, representative's name if a commercial or government body, citizenship, and signature. Conforming changes have been made to the regulations in 27 CFR 47.42(a)(1)(v), 178.112(b)(1)(v), and 178.113(b)(1)(v).

2. Presentation of Export License to U.S. Customs To Effect Release of Firearms, Firearms Parts, and Ammunition

A licensed importer must present the import permit (ATF Form 6—Part I), a release form identifying the goods imported (ATF Form 6A), and a copy of the export license from the exporting country in order to effect the release of firearms, firearms parts, or ammunition from U.S. Customs. If the country of export does not require the issuance of an export license, the licensed importer instead must present a certification, under penalty of perjury, to that effect. Currently, only the ATF Form 6—Part I and ATF Form 6A must be presented to U.S. Customs. The new requirement applies only to commercial (i.e., imports by registered/licensed importers for purposes of resale) importations of firearms, firearms parts, and ammunition. Conforming changes have been made to the regulations in 27 CFR 47.45(a) and 178.112(c).

3. Regulatory Requirement for Specific Information on Import Permit

AECA regulations set forth the requirement for obtaining an import permit but do not specify the information that must be included on the permit application. Though ATF already obtains all information mandated by the Model Regulations through its design of and instructions on the ATF Form 6—Part I, the AECA regulation is being amended to itemize specific information required on the form. Conforming changes have been made to the regulations in 27 CFR 47.42(a).

4. Revision of Parts Exemption

The exemption in 27 CFR 47.41(c) is being revised to reduce the value of the parts and components that may be imported without a permit from $500 to $100. This change maintains the original intent behind the exemption, which was to provide a simplified method for importers to replace minor parts (e.g., springs and screws) damaged during the initial shipment, while maintaining controls over more substantial imports, as required by the Model Regulations.

Technical and Conforming Amendments to Regulations

We have identified several amendments and conforming changes to the regulations that are needed to provide uniformity in chapter I of title 27, CFR. These amendments are contained in parts 47 and 178. The amendments merely improve the clarity of the regulations, simplify regulatory requirements, or implement foreign policy as directed by the Department of State. ATF's administration of the import provisions of the AECA is subject to the guidance of the Secretaries of State and Defense on matters affecting world peace and the external security and foreign policy of the United States. The amendments to parts 47 and 178 are as follows:

1. Department of State regulations in 22 CFR part 129 place registration requirements on persons engaged in brokering activities related to the import of defense articles. A new subparagraph is being added to section 47.2, “Relation to other laws and regulations,” to cross-reference the Department of State regulations in 22 CFR part 129.

2. The name of the Department of State's Office of Munitions Control has been changed to the Office of Defense Trade Controls. Section 47.21 is being amended to reflect this change.

3. ATF Publication 1322.1, Public Use Forms, is no longer available from the Superintendent of Documents, Government Printing Office. Accordingly, section 47.35 is being amended to delete the reference to the availability of this publication.

4. The wording in section 47.41(a) is being changed to clarify the relationship between the permit requirements in parts 178 and 179 and the permit requirements in part 47.

5. In an undated letter received by ATF on December 22, 1999, the Department of State provided advice to ATF concerning the importation into the United States of foreign-origin defense articles. The letter requested that ATF require a statement on the import application certifying, in the case of defense articles of foreign manufacture, to the origin of the articles. ATF is amending the regulations in section 47.42(a) to implement this advice. Appropriate changes have also been made to the ATF Form 6.

6. The use of copies of import permits to effect the release of defense articles from U.S. Customs will be permitted to help relieve the administrative burden on the importer. Conforming changes have been made to the regulations in section 47.43(c).

7. The Department of State, by letter dated November 2, 1998, directed ATF to revise its procedures for regulating the import of U.S. Government-granted or sold defense articles on the United States Munitions List (USML). Specifically, ATF is to deny all applications, with limited exceptions, for the import of these articles. The limited exceptions allowed by the State Department will require importers to first obtain and submit with their import permit applications re-transfer authorizations from the State Department.

A re-transfer authorization indicates the foreign government has properly asked, and has been granted, authority to re-transfer such articles. Other criteria for meeting the terms of the exception are unchanged. Conforming changes have been made to the regulations in section 47.57(b)(1).

8. The requirement for a licensed importer to report on ATF Form 6A the serial numbers of imported firearms within 15 days after their release from Customs has been added to the GCA regulations governing import procedures. ATF Form 6A already requires this information by directions contained in block 9b of the form. Conforming changes have been made to the regulations in section 178.112(d)(1).

9. The required retention of ATF Form 6—Part I and ATF Form 6A for at least 20 years by GCA licensees and at least 6 years by AECA registrants not licensed under the GCA is made explicit by adding references to both forms in record retention requirements. This change affects regulations in sections 47.34(b) and 178.129(d).

Rev. Rul. 69-309

The CICAD Model Regulations specify the minimum information that must be included on import licenses and the procedures for obtaining the release of imported firearms and ammunition from Customs custody. In reviewing the rules and regulations governing firearms imports, ATF has re-examined Rev. Rul. 69-309 (1969-1 C.B. 361), issued in 1969 by the Internal Revenue Service, ATF's predecessor agency. This ruling held that members of the U.S. Armed Forces returning from active duty outside the U.S. may import, without an import permit, up to 3 rifles or shotguns and not more than 1,000 rounds of ammunition. ATF believes that this ruling is inconsistent with the CICAD Model Regulations, since no advance authorization is required for such importations. Accordingly, Rev. Rul. 69-309 is hereby revoked. It should be noted that servicemen returning to the U.S. from overseas duty may still import personal firearms pursuant to 18 U.S.C. 925(a)(4) and 27 CFR 178.114.

Executive Order 12866

Because the amendments to 27 CFR Part 47 involve a foreign affairs function of the United States, Executive Order 12866 does not apply. With respect to the amendments to 27 CFR part 178, it has been determined that this rule is not a significant regulatory action as defined in Executive Order 12866.

Administrative Procedure Act

The amendments made to 27 CFR part 47 are excluded from the rulemaking provisions of 5 U.S.C. 553 because they involve a foreign affairs function of the United States. With respect to the amendments made to 27 CFR part 178, all changes are of a technical, nonsubstantive nature. Accordingly, it is not necessary to issue this Treasury decision with notice and public procedure thereon under 5 U.S.C. 553(b) or subject to the effective date limitations in 5 U.S.C. 553(d).

Regulatory Flexibility Act

The provisions of the Regulatory Flexibility Act (5 U.S.C. 601 et seq.) do not apply to this final rule because no notice of proposed rulemaking is required.

Paperwork Reduction Act

These regulations are being issued without prior notice and public procedure pursuant to the Administrative Procedure Act (5 U.S.C. 553). For this reason, the collections of information contained in these regulations have been reviewed under the requirements of the Paperwork Reduction Act (44 U.S.C. 3507(j)) and, pending receipt and evaluation of public comments, approved by the Office of Management and Budget (OMB) under control numbers 1512-0017 and 1512-0019. An agency may not conduct or sponsor, and a person is not required to respond to, a collection of information unless it displays a valid control number assigned by OMB.

Comments concerning the collections of information should be directed to the Office of Management and Budget, Attention: Desk Officer for the Department of the Treasury, Bureau of Alcohol, Tobacco and Firearms, Office of Information and Regulatory Affairs, Washington, DC 20503, with copies to the Chief, Document Services Branch, Room 3110, Bureau of Alcohol, Tobacco and Firearms, 650 Massachusetts Avenue, NW., Washington, DC 20226. Any such comments should be submitted not later than August 21, 2000. Comments are specifically requested concerning:

Whether the proposed collections of information are necessary for the proper performance of the function of the Bureau of Alcohol, Tobacco and Firearms, including whether the information will have practical utility; the accuracy of the estimated burden associated with the proposed collections of information (see below); how the quality, utility, and clarity of the information to be collected may be enhanced, and; how the burden of complying with the proposed collections of information may be minimized, including through the application of automated collection techniques or other forms of information technology.

The new collections of information under OMB control number 1512-0017 are in 27 CFR 47.42(a)(1), 47.57(b)(1), 178.112(b)(1)(v), and 178.113(b)(1)(v). The new collections of information under OMB control number 1512-0019 are in 27 CFR 47.45(a), 178.112(c) and (d)(1). This information is required to ensure compliance with the import provisions of the Gun Control Act and Arms Export Control Act. This information will be used to ensure that defense articles are lawfully imported into the United States. The collections of information are mandatory. The likely respondents are businesses and individuals.

For collections of information under OMB control number 1512-0017:

Estimated total annual reporting burden: 4,500 hours.

Estimated annual burden per respondent: .5 hours.

Estimated number of respondents: 9,000.

Estimated annual frequency of responses: 1.

For collections of information under OMB control number 1512-0019:

Estimated total annual reporting burden: 8,000 hours.

Estimated annual burden per respondent: .4 hours.

Estimated number of respondents: 20,000.

Estimated annual frequency of responses: 1.

Compliance With 5 U.S.C. Chapter 8

In accordance with 5 U.S.C. 808(2), ATF has found that, consistent with guidance from the Department of State and for reasons of the foreign policy of the United States, notice and public procedure are unnecessary and contrary to the public interest.

Disclosure

Copies of this final rule will be available for public inspection during normal business hours at: ATF Public Reading Room, Room 6480, 650 Massachusetts Avenue NW, Washington, DC.

Drafting Information

The authors of this document are Scott Mendoza, Senior Operations Officer, Detroit Field Division, and James P. Ficaretta, Regulations Division, Bureau of Alcohol, Tobacco and Firearms.

List of Subjects

27 CFR Part 47

Administrative practice and procedure, Arms control, Arms and munitions, Authority delegation, Chemicals, Customs duties and inspection, Imports, Penalties, Reporting and recordkeeping requirements, Scientific equipment, Seizures and forfeitures.

27 CFR Part 178

Administrative practice and procedure, Arms and ammunition, Authority delegations, Customs duties and inspection, Exports, Imports, Military personnel, Penalties, Reporting requirements, Research, Seizures and forfeitures, and Transportation.

Authority and Issuance

For the reasons discussed in the preamble, ATF amends 27 CFR parts 47 and 178 as follows:

PART 47—IMPORTATION OF ARMS, AMMUNITION AND IMPLEMENTS OF WAR

Paragraph 1. The authority citation for 27 CFR part 47 continues to read as follows:

Authority: 22 U.S.C. 2778.

Par. 2. Section 47.2 is amended by adding a new paragraph (d) to read as follows:

§ 47.2 Relation to other laws and regulations.

* * * * *

(d) For provisions requiring the registration of persons engaged in the business of brokering activities with respect to the importation of any defense article or defense service, see Department of State regulations in 22 CFR part 129.

§ 47.21 [Amended]

Par. 3. Section 47.21 is amended by removing “Office of Munitions Control” in the introductory text and in Category XXI of the U.S. Munitions Import List and adding in their place “Office of Defense Trade Controls”.

Par. 4. Section 47.34(b) is amended by adding a comma after the word “disposition”, by removing the phrase “by the registrant” and adding in its place “including Forms 6 and 6A”, and by adding a new sentence at the end of paragraph (b) to read as follows:

§ 47.34 Maintenance of records by persons required to register as importers of Import List articles.

* * * * *

(b) * * * See § 178.129 of this chapter for articles subject to import control under part 178 of this chapter.

* * * * *

§ 47.35 [Amended]

Par. 5. Section 47.35 is amended by removing paragraph (b) and by redesignating paragraph (c) as paragraph (b).

Par. 6. Section 47.41 is amended by revising paragraphs (a) and (c) to read as follows:

§ 47.41 Permit requirement.

(a) Articles on the U.S. Munitions Import List will not be imported into the United States except pursuant to a permit under this subpart issued by the Director. For articles subject to control under parts 178 or 179 of this chapter, a separate permit is not necessary.

* * * * *

(c) A permit is not required for the importation of—

(1)(i) The U.S. Munitions Import List articles from Canada, except articles enumerated in Categories I, II, III, IV, VI(e), VIII(a), XVI, and XX; and

(ii) Nuclear weapons strategic delivery systems and all specifically designed components, parts, accessories, attachments, and associated equipment thereof (see Category XXI); or

(2) Minor components and parts for Category I(a) and I(b) firearms, except barrels, cylinders, receivers (frames) or complete breech mechanisms, when the total value does not exceed $100 wholesale in any single transaction.

Par. 7. Section 47.42(a) is revised to read as follows:

§ 47.42 Application for permit.

(a)(1) Persons required to obtain a permit as provided in § 47.41 must file a Form 6—Part I, in triplicate, with the Director. The application must be signed and dated and must contain the information requested on the form, including:

(i) The name, address, telephone number, license and registration number, if any (including expiration date) of the importer;

(ii) The country from which the defense article is to be imported;

(iii) The name and address of the foreign seller and foreign shipper;

(iv) A description of the defense article to be imported, including—

(A) The name and address of the manufacturer;

(B) The type (e.g., rifle, shotgun, pistol, revolver, aircraft, vessel, and in the case of ammunition only, ball, wadcutter, shot, etc.);

(C) The caliber, gauge, or size;

(D) The model;

(E) The length of barrel, if any (in inches);

(F) The overall length, if a firearm (in inches);

(G) The serial number, if known;

(H) Whether the defense article is new or used;

(I) The quantity;

(J) The unit cost of the firearm, firearm barrel, ammunition, or other defense article to be imported;

(K) The category of U.S. Munitions Import List under which the article is regulated;

(v) The specific purpose of importation, including final recipient information if different from the importer; and

(vi) Certification of origin.

(2)(i) If the Director approves the application, such approved application will serve as the permit to import the defense article described therein, and importation of such defense article may continue to be made by the licensed/registered importer (if applicable) under the approved application (permit) during the period specified thereon. The Director will furnish the approved application (permit) to the applicant and retain two copies thereof for administrative use.

(ii) If the Director disapproves the application, the licensed/registered importer (if applicable) will be notified of the basis for the disapproval.

* * * * *

§ 47.43 [Amended]

Par. 8. Section 47.43(c) is amended by removing the second sentence.

Par. 9. Section 47.45 is amended by revising paragraphs (a) and (b) to read as follows:

§ 47.45 Importation.

(a) Articles subject to the import permit procedures of this subpart imported into the United States may be released from Customs custody to the person authorized to import same upon his showing that he has a permit from the Director for the importation of the article or articles to be released.

For articles in Categories I and III imported by a registered importer, the importer will also submit to Customs a copy of the export license authorizing the export of the article or articles from the exporting country. If the exporting country does not require issuance of an export license, the importer must submit a certification, under penalty of perjury, to that effect.

(1) In obtaining the release from Customs custody of an article imported pursuant to a permit, the permit holder will prepare Form 6A, in duplicate, and furnish the original to the Customs officer releasing the article. The Customs officer will, after certification, forward the original ATF Form 6A to the address specified on the form.

(2) The ATF Form 6A must contain the information requested on the form, including:

(i) The name, address, and license number (if any) of the importer;

(ii) The name of the manufacturer of the defense article;

(iii) The country of manufacture;

(iv) The type;

(v) The model;

(vi) The caliber, gauge, or size;

(vii) The serial number in the case of firearms, if known; and

(viii) The number of defense articles released.

(b) Within 15 days of the date of their release from Customs custody, the importer of the articles released will forward to the address specified on the form a copy of Form 6A on which will be reported any error or discrepancy appearing on the Form 6A certified by Customs and serial numbers if not previously provided on ATF Form 6A.

* * * * *

Par. 10. Section 47.57 is amended by revising paragraphs (a) through (c) to read as follows:

§ 47.57 U.S. military defense articles.

(a)(1) Notwithstanding any other provision of this part or of parts 178 or 179 of this chapter, no military defense article of United States manufacture may be imported into the United States if such article was furnished to a foreign government under a foreign assistance or foreign military sales program of the United States.

(2) The restrictions in paragraph (a)(1) of this section cover defense articles which are advanced in value or improved in condition in a foreign country, but do not include those which have been substantially transformed as to become, in effect, articles of foreign manufacture.

(b) Paragraph (a) of this section will not apply if:

(1) The applicant submits with the ATF Form 6—Part I application written authorization from the Department of State to import the defense article; and

(2) In the case of firearms, such firearms are curios or relics under 18 U.S.C. 925(e) and the person seeking to import such firearms provides a certification of a foreign government that the firearms were furnished to such government under a foreign assistance or foreign military sales program of the United States and that the firearms are owned by such foreign government. (See § 178.118 of this chapter providing for the importation of certain curio or relic handguns, rifles and shotguns.)

(c) For the purpose of this section, the term “military defense article” includes all defense articles furnished to foreign governments under a foreign assistance or foreign military sales program of the United States as set forth in paragraph (a) of this section.

* * * * *

PART 178—COMMERCE IN FIREARMS AND AMMUNITION

Par. 11. The authority citation for 27 CFR part 178 continues to read as follows:

Authority: 5 U.S.C. 552(a); 18 U.S.C. 847, 921-930; 44 U.S.C. 3504(h).

Par. 12. Section 178.112 is amended by revising paragraphs (b), (c), and (d), and by adding a parenthetical text at the end of the section to read as follows:

§ 178.112 Importation by a licensed importer.

* * * * *

(b)(1) An application for a permit, ATF Form 6—Part I, to import or bring a firearm, firearm barrel, or ammunition into the United States or a possession thereof under this section must be filed, in triplicate, with the Director. The application must be signed and dated and must contain the information requested on the form, including:

(i) The name, address, telephone number, and license number (including expiration date) of the importer;

(ii) The country from which the firearm, firearm barrel, or ammunition is to be imported;

(iii) The name and address of the foreign seller and foreign shipper;

(iv) A description of the firearm, firearm barrel, or ammunition to be imported, including:

(A) The name and address of the manufacturer;

(B) The type (e.g., rifle, shotgun, pistol, revolver and, in the case of ammunition only, ball, wadcutter, shot, etc.);

(C) The caliber, gauge, or size;

(D) The model;

(E) The barrel length, if a firearm or firearm barrel (in inches);

(F) The overall length, if a firearm (in inches);

(G) The serial number, if known;

(H) Whether the firearm is new or used;

(I) The quantity;

(J) The unit cost of the firearm, firearm barrel, or ammunition to be imported;

(v) The specific purpose of importation, including final recipient information if different from the importer;

(vi) Verification that if a firearm, it will be identified as required by this part; and

(vii)(A) If a firearm or ammunition imported or brought in for scientific or research purposes, a statement describing such purpose; or

(B) If a firearm or ammunition for use in connection with competition or training pursuant to Chapter 401 of Title 10, U.S.C., a statement describing such intended use; or

(C) If an unserviceable firearm (other than a machine gun) being imported as a curio or museum piece, a description of how it was rendered unserviceable and an explanation of why it is a curio or museum piece; or

(D) If a firearm other than a surplus military firearm, of a type that does not fall within the definition of a firearm under section 5845(a) of the Internal Revenue Code of 1986, and is for sporting purposes, an explanation of why the firearm is generally recognized as particularly suitable for or readily adaptable to sporting purposes; or

(E) If ammunition being imported for sporting purposes, a statement why the ammunition is particularly suitable for or readily adaptable to sporting purposes; or

(F) If a firearm barrel for a handgun, an explanation why the handgun is generally recognized as particularly suitable for or readily adaptable to sporting purposes. (2)(i) If the Director approves the application, such approved application will serve as the permit to import the firearm, firearm barrel, or ammunition described therein, and importation of such firearms, firearm barrels, or ammunition may continue to be made by the licensed importer under the approved application (permit) during the period specified thereon. The Director will furnish the approved application (permit) to the applicant and retain two copies thereof for administrative use.

(ii) If the Director disapproves the application, the licensed importer will be notified of the basis for the disapproval.

(c) A firearm, firearm barrel, or ammunition imported or brought into the United States or a possession thereof under the provisions of this section by a licensed importer may be released from Customs custody to the licensed importer upon showing that the importer has obtained a permit from the Director for the importation of the firearm, firearm barrel, or ammunition to be released. The importer will also submit to Customs a copy of the export license authorizing the export of the firearm, firearm barrel, or ammunition from the exporting country. If the exporting country does not require issuance of an export license, the importer must submit a certification, under penalty of perjury, to that effect.

(1) In obtaining the release from Customs custody of a firearm, firearm barrel, or ammunition authorized by this section to be imported through the use of a permit, the licensed importer will prepare ATF Form 6A, in duplicate, and furnish the original ATF Form 6A to the Customs officer releasing the firearm, firearm barrel, or ammunition. The Customs officer will, after certification, forward the ATF Form 6A to the address specified on the form.

(2) The ATF Form 6A must contain the information requested on the form, including:

(i) The name, address, and license number of the importer;

(ii) The name of the manufacturer of the firearm, firearm barrel, or ammunition;

(iii) The country of manufacture;

(iv) The type;

(v) The model;

(vi) The caliber, gauge, or size;

(vii) The serial number in the case of firearms, if known; and

(viii) The number of firearms, firearm barrels, or rounds of ammunition released.

(d) Within 15 days of the date of release from Customs custody, the licensed importer must:

(1) Forward to the address specified on the form a copy of ATF Form 6A on which must be reported any error or discrepancy appearing on the ATF Form 6A certified by Customs and serial numbers if not previously provided on ATF Form 6A;

(2) Pursuant to § 178.92, place all required identification data on each imported firearm if same did not bear such identification data at the time of its release from Customs custody; and

(3) Post in the records required to be maintained by the importer under subpart H of this part all required information regarding the importation.

(Paragraph (b) approved by the Office of Management and Budget under control number 1512-0017; paragraphs (c) and (d) approved by the Office of Management and Budget under control number 1512-0019)

Par. 13. Section 178.113 is amended by revising paragraphs (b) and (c) and by adding a parenthetical text at the end of the section to read as follows:

§ 178.113 Importation by other licensees.

* * * * *

(b)(1) An application for a permit, ATF Form 6—Part I, to import or bring a firearm, firearm barrel, or ammunition into the United States or a possession thereof by a licensee, other than a licensed importer, must be filed, in triplicate, with the Director. The application must be signed and dated and must contain the information requested on the form, including:

(i) The name, address, telephone number, and license number (including expiration date) of the applicant;

(ii) The country from which the firearm, firearm barrel, or ammunition is to be imported;

(iii) The name and address of the foreign seller and foreign shipper;

(iv) A description of the firearm, firearm barrel, or ammunition to be imported, including:

(A) The name and address of the manufacturer;

(B) The type (e.g., rifle, shotgun, pistol, revolver and, in the case of ammunition only, ball, wadcutter, shot, etc.);

(C) The caliber, gauge, or size;

(D) The model;

(E) The barrel length, if a firearm or firearm barrel (in inches);

(F) The overall length, if a firearm (in inches);

(G) The serial number, if known;

(H) Whether the firearm is new or used;

(I) The quantity;

(J) The unit cost of the firearm, firearm barrel, or ammunition to be imported;

(v) The specific purpose of importation, including final recipient information if different from the applicant; and

(vi)(A) If a firearm or ammunition imported or brought in for scientific or research purposes, a statement describing such purpose; or

(B) If a firearm or ammunition for use in connection with competition or training pursuant to Chapter 401 of Title 10, U.S.C., a statement describing such intended use; or

(C) If an unserviceable firearm (other than a machine gun) being imported as a curio or museum piece, a description of how it was rendered unserviceable and an explanation of why it is a curio or museum piece; or

(D) If a firearm other than a surplus military firearm, of a type that does not fall within the definition of a firearm under section 5845(a) of the Internal Revenue Code of 1986, and is for sporting purposes, an explanation of why the firearm is generally recognized as particularly suitable for or readily adaptable to sporting purposes; or

(E) If ammunition being imported for sporting purposes, a statement why the ammunition is particularly suitable for or readily adaptable to sporting purposes; or

(F) If a firearm barrel for a handgun, an explanation why the handgun is generally recognized as particularly suitable for or readily adaptable to sporting purposes.

(2)(i) If the Director approves the application, such approved application will serve as the permit to import the firearm, firearm barrel, or ammunition described therein, and importation of such firearms, firearm barrels, or ammunition may continue to be made by the applicant under the approved application (permit) during the period specified thereon. The Director will furnish the approved application (permit) to the applicant and retain two copies thereof for administrative use.

(ii) If the Director disapproves the application, the applicant will be notified of the basis for the disapproval.

(c) A firearm, firearm barrel, or ammunition imported or brought into the United States or a possession thereof under the provisions of this section may be released from Customs custody to the licensee upon showing that the licensee has obtained a permit from the Director for the importation of the firearm, firearm barrel, or ammunition to be released.

(1) In obtaining the release from Customs custody of a firearm, firearm barrel, or ammunition authorized by this section to be imported through the use of a permit, the licensee will prepare ATF Form 6A, in duplicate, and furnish the original ATF Form 6A to the Customs officer releasing the firearm, firearm barrel, or ammunition. The Customs officer will, after certification, forward the ATF Form 6A to the address specified on the form.

(2) The ATF Form 6A must contain the information requested on the form, including:

(i) The name, address, and license number of the licensee;

(ii) The name of the manufacturer of the firearm, firearm barrel, or ammunition;

(iii) The country of manufacture;

(iv) The type;

(v) The model;

(vi) The caliber, gauge, or size;

(vii) The serial number in the case of firearms; and

(viii) The number of firearms, firearm barrels, or rounds of ammunition released.

(Paragraph (b) approved by the Office of Management and Budget under control number 1512-0017; paragraph (c) approved by the Office of Management and Budget under control number 1512-0019)

Par. 14. Section 178.113a is amended by revising paragraphs (b) and (c) and by adding a parenthetical text at the end of the section to read as follows:

§ 178.113a Importation of firearm barrels by nonlicensees.

* * * * *

(b)(1) An application for a permit, ATF Form 6—Part I, to import or bring a firearm barrel into the United States or a possession thereof under this section must be filed, in triplicate, with the Director. The application must be signed and dated and must contain the information requested on the form, including:

(i) The name, address, and telephone number of the applicant;

(ii) The country from which the firearm barrel is to be imported;

(iii) The name and address of the foreign seller and foreign shipper;

(iv) A description of the firearm barrel to be imported, including:

(A) The name and address of the manufacturer;

(B) The type (e.g., rifle, shotgun, pistol, revolver);

(C) The caliber, gauge, or size;

(D) The model;

(E) The barrel length (in inches);

(F) The quantity;

(G) The unit cost of the firearm barrel;

(v) The specific purpose of importation, including final recipient information if different from the importer; and

(vi) If a handgun barrel, an explanation of why the barrel is for a handgun that is generally recognized as particularly suitable for or readily adaptable to sporting purposes.

(2)(i) If the Director approves the application, such approved application will serve as the permit to import the firearm barrel, and importation of such firearm barrels may continue to be made by the applicant under the approved application (permit) during the period specified thereon. The Director will furnish the approved application (permit) to the applicant and retain two copies thereof for administrative use.

(ii) If the Director disapproves the application, the applicant will be notified of the basis for the disapproval.

(c) A firearm barrel imported or brought into the United States or a possession thereof under the provisions of this section may be released from Customs custody to the person importing the firearm barrel upon showing that the person has obtained a permit from the Director for the importation of the firearm barrel to be released.

(1) In obtaining the release from Customs custody of a firearm barrel authorized by this section to be imported through the use of a permit, the person importing the firearm barrel will prepare ATF Form 6A, in duplicate, and furnish the original ATF Form 6A to the Customs officer releasing the firearm barrel. The Customs officer will, after certification, forward the ATF Form 6A to the address specified on the form.

(2) The ATF Form 6A must contain the information requested on the form, including:

(i) The name and address of the person importing the firearm barrel;

(ii) The name of the manufacturer of the firearm barrel;

(iii) The country of manufacture;

(iv) The type;

(v) The model;

(vi) The caliber or gauge of the firearm barrel so released; and

(vii) The number of firearm barrels released;.

(Paragraph (b) approved by the Office of Management and Budget under control number 1512-0017; paragraph (c) approved by the Office of Management and Budget under control number 1512-0019)

Par. 15. Section 178.114 is amended by revising paragraphs (a) and (b) and by adding a parenthetical text at the end of the section to read as follows:

§ 178.114 Importation by members of the U.S. Armed Forces.

(a) The Director may issue a permit authorizing the importation of a firearm or ammunition into the United States to the place of residence of any military member of the U.S. Armed Forces who is on active duty outside the United States, or who has been on active duty outside the United States within the 60-day period immediately preceding the intended importation: Provided, That such firearm or ammunition is generally recognized as particularly suitable for or readily adaptable to sporting purposes and is intended for the personal use of such member.

(1) An application for a permit, ATF Form 6—Part II, to import a firearm or ammunition into the United States under this section must be filed, in triplicate, with the Director. The application must be signed and dated and must contain the information requested on the form, including:

(i) The name, current address, and telephone number of the applicant;

(ii) Certification that the transportation, receipt, or possession of the firearm or ammunition to be imported would not constitute a violation of any provision of the Act or of any State law or local ordinance at the place of the applicant's residence;

(iii) The country from which the firearm or ammunition is to be imported;

(iv) The name and address of the foreign seller and foreign shipper;

(v) A description of the firearm or ammunition to be imported, including:

(A) The name and address of the manufacturer;

(B) The type (e.g., rifle, shotgun, pistol, revolver and, in the case of ammunition only, ball, wadcutter, shot, etc.);

(C) The caliber, gauge, or size;

(D) The model;

(E) The barrel length, if a firearm (in inches);

(F) The overall length, if a firearm (in inches);

(G) The serial number;

(H) Whether the firearm is new or used;

(I) The quantity;

(J) The unit cost of the firearm or ammunition to imported;

(vi) The specific purpose of importation, that is —

(A) That the firearm or ammunition being imported is for the personal use of the applicant; and

(B) If a firearm, a statement that it is not a surplus military firearm, that it does not fall within the definition of a firearm under section 5845(a) of the Internal Revenue Code of 1986, and an explanation of why the firearm is generally recognized as particularly suitable for or readily adaptable to sporting purposes; or

(C) If ammunition, a statement why it is generally recognized as particularly suitable for or readily adaptable to sporting purposes; and

(vii) The applicant's date of birth;

(viii) The applicant's rank or grade;

(ix) The applicant's place of residence;

(x) The applicant's present foreign duty station or last foreign duty station, as the case may be;

(xi) The date of the applicant's reassignment to a duty station within the United States, if applicable; and

(xii) The military branch of which the applicant is a member.

(2)(i) If the Director approves the application, such approved application will serve as the permit to import the firearm or ammunition described therein. The Director will furnish the approved application (permit) to the applicant and retain two copies thereof for administrative use.

(ii) If the Director disapproves the application, the applicant will be notified of the basis for the disapproval.

(b) Except as provided in paragraph (b)(3) of this section, a firearm or ammunition imported into the United States under the provisions of this section by the applicant may be released from Customs custody to the applicant upon showing that the applicant has obtained a permit from the Director for the importation of the firearm or ammunition to be released.

(1) In obtaining the release from Customs custody of a firearm or ammunition authorized by this section to be imported through the use of a permit, the military member of the U.S. Armed Forces will prepare ATF Form 6A and furnish the completed form to the Customs officer releasing the firearm or ammunition. The Customs officer will, after certification, forward the ATF Form 6A to the address specified on the form.

(2) The ATF Form 6A must contain the information requested on the form, including:

(i) The name and address of the military member;

(ii) The name of the manufacturer of the firearm or ammunition;

(iii) The country of manufacture;

(iv) The type;

(v) The model;

(vi) The caliber, gauge, or size;

(vii) The serial number in the case of firearms; and

(viii) If applicable, the number of firearms or rounds of ammunition released.

(3) When such military member is on active duty outside the United States, the military member may appoint, in writing, an agent to obtain the release of the firearm or ammunition from Customs custody for such member. Such agent will present sufficient identification of the agent and the written authorization to act on behalf of such military member to the Customs officer who is to release the firearm or ammunition.

* * * * *

(Paragraph (a) approved by the Office of Management and Budget under control number 1512-0018; paragraph (b) approved by the Office of Management and Budget under control number 1512-0019)

Par. 16. Section 178.129(d) is amended by revising the first sentence to read as follows:

§ 178.129 Record retention.

* * * * *

(d) Records of importation and manufacture. Licensees will maintain permanent records of the importation, manufacture, or other acquisition of firearms, including ATF Forms 6 and 6A as required by subpart G of this part. * * *

* * * * *

Dated: March 17, 2000.
Bradley A. Buckles,
Director.
Dated: April 4, 2000.
John P. Simpson,
Deputy Assistant Secretary, Regulatory Tariff and Trade Enforcement.

[FR Doc. 00-15485 Filed 6-19-00; 8:45 am]

BILLING CODE 4810-31-P